NUCLEAR REGULATORY COMMISSION

10 CFR Part 50

[Docket No. PRM-50-75; NRC-2002-0018]

Anthony R. Pietrangelo, Nuclear Energy Institute; Consideration of Petition in the Rulemaking Process

AGENCY: Nuclear Regulatory Commission.

ACTION: Resolution and closure of petition docket.

SUMMARY: The Nuclear Regulatory Commission (NRC) is considering the issues raised in a petition for rulemaking submitted by Anthony R. Pietrangelo, on behalf of the Nuclear Energy Institute, in the ongoing “Risk-Informed Redefinition of Large Break Loss-of-Coolant Accident (LOCA) Emergency Core Cooling System (ECCS) Requirements” rulemaking. The petitioner requested that the NRC amend its regulations to allow the use of an alternative to the currently required double-ended rupture of the largest pipe in the reactor coolant system in ECCS evaluation models.

DATES: The docket for the petition for rulemaking PRM-50-75 is closed on November 6, 2008.

ADDRESSES: You can access publicly available documents related to this petition for rulemaking using the following methods:

Federal e-Rulemaking Portal: Further NRC action on the issues raised by this petition will be accessible at the federal rulemaking portal, http://www.regulations.gov, by searching on rulemaking docket ID: NRC-2002-0018 and docket ID: NRC-2008-0332. The NRC also tracks all rulemaking actions in the “NRC Regulatory Agenda: Semiannual Report (NUREG-0936).”

NRC's Public Document Room (PDR): The public may examine and have copied for a fee, publicly available documents at the NRC's PDR, Public File Area O-1F21, One White Flint North, 11555 Rockville Pike, Rockville, Maryland.

NRC's Agencywide Document Access and Management System (ADAMS): Publicly available documents created or received at the NRC are available electronically at the NRC's Electronic Reading Room at http://www.nrc.gov/NRC/reading-rm/adams.html. From this page, the public can gain entry into ADAMS, which provides text and image files of NRC's public documents. If you do not have access to ADAMS or if there are any problems in accessing the documents located in ADAMS, contact the NRC PDR Reference staff at 1-800-397-4209, 301-415-4737 or by e-mail to PDR.resource@nrc.gov.

FOR FURTHER INFORMATION CONTACT: Lynn M. Hall, Office of Nuclear Reactor Regulation, U.S. Nuclear Regulatory Commission, Washington, DC 20555-0001, Telephone: 301-415-3759, or toll-free: 800-368-5642, e-mail: Lynn.Hall@nrc.gov

SUPPLEMENTARY INFORMATION: On April 8, 2002 (67 FR 16654), the NRC published for public comment a petition for rulemaking (PRM) filed by Anthony R. Pietrangelo, on behalf of the Nuclear Energy Institute. The comment period closed on June 24, 2002, and the NRC received eighteen comment letters ML082460625. The NRC has determined that the issues raised in PRM-50-75 are appropriate for consideration and, in fact, the issues are already being considered in the ongoing “Risk-Informed Redefinition of Large Break LOCA ECCS Requirements” rulemaking. This proposed rule was published on April 8, 2005 (67 FR 16654), and a report on “Seismic Considerations for the Transition Break Size” was published for public comment on December 20, 2005 (70 FR 75501). The comment periods for both the proposed rule and the report expired on February 6, 2006. The NRC will address substantive comments filed in PRM-50-75 as part of the “Risk-Informed Redefinition of Large Break LOCA ECCS Requirements” rulemaking.

Dated at Rockville, Maryland, this 15th day of October 2008.
For the Nuclear Regulatory Commission.
Bruce S. Mallett,
Acting Executive Director for Operations.

[FR Doc. E8-26463 Filed 11-5-08; 8:45 am]

BILLING CODE 7590-01-P